DEPARTMENT OF ENERGY

Federal Energy Regulatory Commission

[Project No. 14465-000]

North Star Hydro Services, CA LLC; Notice of Preliminary Permit Application Accepted for Filing and Soliciting Comments, Motions To Intervene, and Competing Applications

On November 6, 2012, North Star Hydro Services CA, LLC filed an application for a preliminary permit, pursuant to section 4(f) of the Federal Power Act (FPA), proposing to study the feasibility of the Marble Bluff Dam Hydropower Project to be located at the U.S. Bureau of Reclamation's Marble Bluff dam on the Truckee River, near Nixon, Washoe County, Nevada. The sole purpose of a preliminary permit, if issued, is to grant the permit holder priority to file a license application during the permit term. A preliminary permit does not authorize the permit holder to perform any land-disturbing activities or otherwise enter upon lands or waters owned by others without the owners' express permission.

The applicant proposes to build a 20-foot-high by 12-foot-wide sluice gate east of the existing spillway of the Marble Bluff dam. Flow diverted at the sluice gate would be used to generate power at a new 1,300-kilowatt powerhouse, with an associated penstock, tailrace, and stilling basin. The applicant estimates the powerhouse would generate 5.62 gigawatt-hours annually.

Applicant Contact: Mr. David Holland, North Star Hydro Services CA, LLC, 1110 West 131st Street South, Jenks, Oklahoma,74037; phone: (918) 398-0233.

FERC Contact: Jim Fargo at james.fargo@ferc.gov; phone: (202) 502-6095.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14465) in the docket number field to access the document. For assistance, contact FERC Online Support.

Dated: November 29, 2012.
Kimberly D. Bose,
Secretary.

[FR Doc. 2012-29804 Filed 12-10-12; 8:45 am]

BILLING CODE 6717-01-P